DEPARTMENT OF EDUCATION

National Assessment Governing Board Quarterly Board Meeting

AGENCY: National Assessment Governing Board, U.S. Department of Education.

ACTION: Announcement of open and closed meetings.

SUMMARY: This notice sets forth the agenda for the August 6-8, 2015 Quarterly Meeting of the National Assessment Governing Board (hereafter referred to as Governing Board). This notice provides information to members of the public who may be interested in attending the meeting or providing written comments on the meeting. The notice of this meeting is required under section 10(a)(2) of the Federal Advisory Committee Act (FACA).

DATES: The Quarterly Board meeting will be held on the following dates:

• August 6, 2015 from 8:30 a.m. to 6:15 p.m.

• August 7, 2015 from 8:30 a.m. to 5:30 p.m.

• August 8, 2015 from 7:30 a.m. to 12:00 p.m.

ADDRESSES: Westin Arlington Gateway, 801 North Glebe Road, Arlington, VA 22203.

FOR FURTHER INFORMATION CONTACT: Munira Mwalimu, Executive Officer, 800 North Capitol Street NW., Suite 825, Washington, DC 20002, telephone: (202) 357-6938, fax: (202) 357-6945.

SUPPLEMENTARY INFORMATION:

Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Detailed Meeting Agenda: August 6-8, 2015

August 6: Committee Meetings

Assessment Development Committee: Closed Session: 8:30 a.m.-4:00 p.m.

Executive Committee: Open Session: 4:30 p.m.-5:20 p.m.; Closed Session: 5:20 p.m.-6:15 p.m.

August 7: Full Board and Committee Meetings

Full Board: Open Session: 8:30 a.m.-10:15 a.m.; Closed Session: 12:45 p.m. to 2:45 p.m.; Open Session 2:45 p.m.-5:30 p.m.

Committee Meetings

Assessment Development Committee (ADC): Open Session: 10:15 a.m.-11:10 a.m.; Closed Session: 11:10 a.m.-12:30 p.m.

Reporting and Dissemination Committee (R&D): Open Session: 10:15 a.m.-12:30 p.m.

Committee on Standards, Design and Methodology (COSDAM): Open Session: 10:15 a.m.-11:45 a.m.; Closed Session: 11:45 a.m.-12:30 p.m.

August 8: Full Board and Committee Meetings

Nominations Committee: Closed Session: 7:30 a.m.-8:15 a.m.

Full Board: Closed Session: 8:30 a.m.-10:00 a.m. Open Session 10:00 a.m.-12:00 p.m.

On August 6, 2015, from 8:30 a.m. to 4:00 p.m., the Assessment Development Committee will meet in closed session to review assessment items for the NAEP transition to digital-based assessments (DBA). The review will include secure items in mathematics at grades 4 and 8 for the 2016 pilot, in preparation for the 2017 operational assessment. The Committee's reviews and discussions on secure test items cannot be discussed in an open meeting to protect the confidentiality of the secure assessment materials. Premature disclosure of these results would significantly impede implementation of the NAEP assessment program, and is therefore protected by exemption 9(B) of section 552b(c) of Title 5 United States Code.

The Board's standing committees will meet to conduct regularly scheduled work, based on agenda items planned for this quarterly Board meeting, and follow up items as reported in the Board's committee meeting minutes available at http://nagb.gov/what-we-do/board-committee-reports-and-agendas.html.

The Executive Committee will convene in open session on August 6, 2015 from 4:30 p.m. to 5:20 p.m. and thereafter in closed session from 5:20 p.m. to 6:15 p.m. During the closed session, the Executive Committee will receive and discuss cost estimates for implementing NAEP's Assessment Schedule for 2014-2024, and the implications of the cost and funding estimates for the NAEP Assessment Schedule and future NAEP activities will also be discussed. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On August 7, 2015, the full Board will meet in open session from 8:30 a.m. to 10:15 a.m. The Board will review and approve the August 6-7, 2015 Board meeting agenda and meeting minutes from the May 2015 Quarterly Board meeting. This session will be followed by the Chairman's remarks and welcome remarks from the Governing Board's new Executive Director, Bill Bushaw. Thereafter, the full Board will receive a briefing on the Trial Urban District Assessments (TUDA) and implications for education reforms from Michael Casserly, Executive Director of the Council of the Great City Schools. The briefing will be followed by update reports from the Acting Director of the Institute of Education Sciences, Sue Betka, and the Acting Commissioner of the National Center for Education Statistics, Peggy Carr. The Board will recess for Committee meetings from 10:15 a.m. to 12:30 p.m.

The Reporting and Dissemination Committee will meet in open session from 10:15 a.m. to 12:30 p.m.

The Committee on Standards, Design and Methodology (COSDAM) will meet in open session from 10:15 a.m. to 11:45 a.m. and thereafter in closed session from 11:45 a.m. to 12:30 p.m. During the closed session COSDAM will discuss information regarding analyses of the 2014 grade 8 Technology and Engineering Literacy (TEL) assessment, and discuss secure NAEP TEL data. This part of the meeting must be conducted in closed session because the analysis involves the use of secure data for the NAEP TEL assessment. Public disclosure of secure data would significantly impede implementation of the NAEP assessment program if conducted in open session. Such matters are protected by exemption 9(B) of section 552b of Title 5 U.S.C.

The Assessment Development Committee will meet in open session from 10:15 a.m. to 11:10 a.m. and thereafter in closed session from 11:10 a.m. to 12:30 p.m. During the closed session, the Committee will receive a briefing on transitioning NAEP to Digital-Based Assessments (DBA). The briefing will be in-depth, with discussion of secure NAEP reading and mathematics test questions for the 2017 operational assessments at grades 4 and 8, and secure items at grades 8 and 12 in U.S. history, civics, and geography for the 2018 operational assessments. This part of the meeting must be conducted in closed session because the items are to be used in NAEP assessments; public disclosure of secure test items would significantly impede implementation of the NAEP assessment program if conducted in open session. Such matters are protected by exemption 9(B) of section 552b of Title 5 U.S.C.

Following the Committee meetings, the Board will convene in closed session from 12:45 p.m. to 2:45 p.m. The closed session will for the Board to receive a briefing and discuss the NAEP 2015 Report Cards in Reading and Mathematics for grades 4 and 8 national and state data. This part of the meeting must be conducted in closed session because results of these NAEP assessments have been embargoed and are not ready for public release. Public disclosure of this information would likely have an adverse technical and financial impact on the NAEP program. Discussion of this information would be likely to significantly impede implementation of a proposed agency action if conducted in open session. Such matters are protected by exemption 9(B) of section 552b of Title 5 U.S.C.

Thereafter, the Board will meet in open session from 2:45 p.m. to 5:00 p.m. From 3:15-4:15 p.m., the Board will meet in breakout sessions by groups comprised of NAGB members established by the Chairman to discuss the Governing Board's Strategic Planning Initiative. The Board will then convene from 4:30 p.m. to 5:30 p.m. to receive reports from the group breakouts and engage in discussions prior to taking action on the Governing Board's Strategic Planning Framework.

The August 7, 2015 session of the Board meeting will adjourn at 5:30 p.m.

On August 8, 2015, the Nominations Committee will meet in closed session from 7:30 a.m. to 8:15 a.m. to discuss candidates for six Board vacancies for terms beginning on October 1, 2016. The Committee's discussions pertain solely to internal personnel rules and practices of an agency and information of a personal nature where disclosure would constitute an unwarranted invasion of personal privacy. As such, the discussions are protected by exemptions 2 and 6 of section 552b(c) of Title 5 of the United States Code.

On Saturday, August 8, the full Board will meet in closed session from 8:30 a.m. to 10:00 a.m. to discuss preliminary information regarding the 2014 grade 8 Technology and Engineering Literacy (TEL) assessment and achievement levels setting process. This part of the meeting must be conducted in closed session because it involves secure items and data for the NAEP TEL assessment. Public disclosure of secure items and data would significantly impede implementation of the NAEP assessment program if conducted in open session. Such matters are protected by exemption 9(B) of section 552b of Title 5 U.S.C.

From 10:15 a.m. to 11:15 a.m. the Board will discuss and take action on the Assessment Literacy Communications Plan. Outgoing Board members whose terms expire in September 2015 will provide remarks from 11:15 a.m. to 11:30 a.m.

The Board will receive reports from the standing committees and take action proposed by the Executive and Reporting Committees from 11:30 a.m. to 12:00 p.m. as follows:

1. Executive Committee: Election of Board Vice Chair for 2015-2016

2. Executive Committee: Budget Resolution on NAEP Funding

3. Reporting and Dissemination Committee: Release Plan for 2015 Reading and Mathematics Report Cards.

The August 8, 2015 meeting is scheduled to adjourn at 12:00 p.m.

Access to Records of the Meeting: Pursuant to FACA requirements, the public may also inspect the meeting materials at www.nagb.gov on Friday, August 7, 2015 by 7:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress section 301.

Dated: July 16, 2015.
Mary Crovo,
Deputy Executive Director, National Assessment Governing Board (NAGB), U.S. Department of Education.

[FR Doc. 2015-17832 Filed 7-21-15; 8:45 am]

BILLING CODE P